DEPARTMENT OF HEALTH AND HUMAN SERVICES

National Institutes of Health

Prospective Grant of Exclusive License: Compositions and Methods for the Stimulation of Proliferation and Differentiation of Pancreatic Cells Ex Vivo

AGENCY: National Institutes of Health, Public Health Service, DHHS.

ACTION: Notice.

SUMMARY: This notice in accordance with 15 U.S.C. 209(c)(1) and 37 CFR 404.7(a)(1)(i) that the National Institutes of Health (NIH), Department of Health and Human Services, is contemplating the grant of an exclusive world-wide license to practice the inventions embodied in any U.S. patents 5,888,705 (03/30/1999) and 5,587,309 (12/24/1996) or foreign applications corresponding to PCT Patent Application PCT/US95/00521, entitled “Compositions and Method of Stimulating the Proliferation and Differentiation of Human Fetal and Adult Pancreatic Cells Ex Vivo” published as WO 95/29989 (11/09/1995) to PanCel Corp., of California. The prospective exclusive license may be limited to the development of therapeutic applications, including compositions and methods using adult pancreatic cells, to be used in the treatment of diabetes.

DATES: Only written comments and/or applications for a license which are received by NIH on or before February 5, 2001, will be considered.

ADDRESSES: Requests for a copy of these patent applications, inquiries, comment and other materials relating to the contemplated license should be directed to Susan S. Rucker, J.D., Patent and Licensing Specialist, Office of Technology Transfer, National Institutes of Health, 6011 Executive Boulevard, Suite 325, Rockville, Maryland 20852-3804; telephone: 301/496-7056 ext 245; fax: 301/402-0220. A signed Confidentiality Agreement will be required to receive copies of the patent applications.

SUPPLEMENTARY INFORMATION: The patents and patent applications describe the use of the compound Hepatocyte Growth Factor/Scatter Factor (HGF/SF) for the stimulation of proliferation and differentiation of pancreatic cells. Upon exposure to HGF/SF the pancreatic cells proliferate and differentiate and are able to produce insulin. The ability to stimulate pancreatic cells to proliferate and differentiate into cells capable of producing insulin may provide a means for improving the treatment of Type I and Type II diabetes.

The prospective exclusive license will be royalty bearing and will comply with the terms and conditions of 35 U.S.C. 209 and 37 CFR 404.7. This prospective exclusive license may be granted unless within sixty (60) days from the date of this published notice, NIH receives written evidence and argument that establishes that the grant of the license would not be consistent with the requirements of 35 U.S.C. 209 and 37 CFR 404.7.

Applications for a license (i.e., a completed “Application for License to Public Health Service Inventions”) in the indicated exclusive field of use filed in response to this notice will be treated as objections to the grant of the contemplated license. Comments and objections will not be made available for public inspection and, to the extent permitted by law, will not be subject to disclosure under the Freedom of Information Act 35 U.S.C. 552.

Dated: November 29, 2000.
Jack Spiegel,
Director, Division of Technology Development and Transfer, Office of Technology Transfer.

[FR Doc. 00-31217 Filed 12-6-00; 8:45 am]

BILLING CODE 4140-01-P